DEPARTMENT OF DEFENSE

Office of the Secretary

Uniform Formulary Beneficiary Advisory Panel; Notice of Federal Advisory Committee Meeting

AGENCY: Under Secretary of Defense for Personnel and Readiness, Department of Defense (DoD).

ACTION: Notice of Federal Advisory Committee meeting.

SUMMARY: The Department of Defense is publishing this notice to announce that the meeting time of the April 1, 2020 Federal Advisory Committee meeting of the Uniform Formulary Beneficiary Advisory Panel has changed. The updated meeting time is in the DATES section of this notice.

DATES: Open to the public Wednesday, April 1, 2020, from 12:15 p.m. to 5:00 p.m.

ADDRESSES: The address of the open meeting is the Naval Heritage Center Theater, 701 Pennsylvania Avenue NW, Washington, DC 20004.

FOR FURTHER INFORMATION CONTACT: Colonel Paul J. Hoerner, USAF, 703-681-2890 (Voice), None (Facsimile), dha.ncr.j-6.mbx.baprequests@mail.mil (Email). Mailing address is 7700 Arlington Boulevard, Suite 5101, Falls Church, VA 22042-5101. Website: https://health.mil/bap. The most up-to-date changes to the meeting agenda can be found on the website.

SUPPLEMENTARY INFORMATION: On February 26, 2020 (85 FR 11053-11054), the Department of Defense published a notice announcing the meeting of Uniform Formulary Beneficiary Advisory Panel on Wednesday, April 1, 2020. Subsequent to the publication of the notice at 85 FR 11053-11054, the meeting time has changed. All other information in the notice at 85 FR 11053-11054 remains the same.

Dated: March 4, 2020.
Aaron T. Siegel,
Alternate OSD Federal Register Liaison Officer, Department of Defense.

[FR Doc. 2020-04759 Filed 3-6-20; 8:45 am]

BILLING CODE 5001-06-P